DEPARTMENT OF ENERGY

Federal Energy Regulatory Commission

Combined Notice of Filings #2

Take notice that the Commission received the following electric corporate filings:

Docket Numbers: EC16-187-000.

Applicants: Quantum Pasco Power, LP, Rockland Pasco Holdings, LLC.

Description: Joint Application of Quantum Pasco Power, LP, et. al. for Authorization of Disposition of Jurisdictional Facilities Under Section 203 of the FPA and Requests for Waivers, Expedited Action and Privileged Treatment.

Filed Date: 9/23/16.

Accession Number: 20160923-5248.

Comments Due: 5 p.m. ET 10/14/16.

Docket Numbers: EC16-188-000.

Applicants: Bluco Energy, LLC.

Description: Application for Authorization Under Section 203 of the Federal Power Act of BluCo Energy, LLC.

Filed Date: 9/23/16.

Accession Number: 20160923-5261.

Comments Due: 5 p.m. ET 10/14/16.

Take notice that the Commission received the following electric rate filings:

Docket Numbers: ER16-2298-001.

Applicants: Duke Energy Kentucky, Inc.

Description: Tariff Amendment: Revised DEK Rate Schedule No. 14 to be effective 10/1/2016.

Filed Date: 9/23/16.

Accession Number: 20160923-5180.

Comments Due: 5 p.m. ET 10/14/16.

Docket Numbers: ER16-2653-000.

Applicants: Cimarron Bend Wind Project I, LLC.

Description: Baseline eTariff Filing: MBR Tariff to be effective 11/10/2016.

Filed Date: 9/23/16.

Accession Number: 20160923-5114.

Comments Due: 5 p.m. ET 10/14/16.

Docket Numbers: ER16-2654-000.

Applicants: City Point Energy Center, LLC.

Description: Baseline eTariff Filing: Baseline new to be effective 12/31/9998.

Filed Date: 9/23/16.

Accession Number: 20160923-5183.

Comments Due: 5 p.m. ET 10/14/16.

Docket Numbers: ER16-2655-000.

Applicants: Southwestern Public Service Company.

Description: §205(d) Rate Filing: SPS-GSEC-Ltr Agrmt-676-0.1.0-NOC to be effective 11/22/2016.

Filed Date: 9/23/16.

Accession Number: 20160923-5201.

Comments Due: 5 p.m. ET 10/14/16.

Docket Numbers: ER16-2656-000.

Applicants: Arizona Public Service Company.

Description: §205(d) Rate Filing: OATT Administrative Filing to be effective 11/23/2016.

Filed Date: 9/23/16.

Accession Number: 20160923-5240.

Comments Due: 5 p.m. ET 10/14/16.

Docket Numbers: ER16-2657-000.

Applicants: Duke Energy Florida, LLC.

Description: §205(d) Rate Filing: Cost-Based Power Sales Agreements to be effective 12/1/2016.

Filed Date: 9/23/16.

Accession Number: 20160923-5276.

Comments Due: 5 p.m. ET 10/14/16.

Docket Numbers: ER16-2658-000.

Applicants: Pacific Gas and Electric Company.

Description: Tariff Cancellation: Notice of Termination of PG&E OATT and BART Agreements to be effective 12/31/2016.

Filed Date: 9/23/16.

Accession Number: 20160923-5300.

Comments Due: 5 p.m. ET 10/14/16.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2016.
Nathaniel J. Davis, Sr.,
Deputy Secretary.

[FR Doc. 2016-23542 Filed 9-28-16; 8:45 am]

BILLING CODE 6717-01-P